DEPARTMENT OF COMMERCE

National Oceanic and Atmospheric Administration

RIN 0648-XG406

Mid-Atlantic Fishery Management Council (MAFMC); Public Meeting

AGENCY: National Marine Fisheries Service (NMFS), National Oceanic and Atmospheric Administration (NOAA), Commerce.

ACTION: Notice of cancellation of a public meeting.

SUMMARY: The Mid-Atlantic Fishery Management Council (MAFMC) has cancelled its Surfclam and Ocean Quahog Advisory Panel (AP) meeting that was scheduled on Wednesday, September 5, 2018, from 10 a.m. to 4 p.m.

FOR FURTHER INFORMATION CONTACT: Christopher M. Moore, Ph.D., Executive Director, Mid-Atlantic Fishery Management Council, telephone: (302) 526-5255.

SUPPLEMENTARY INFORMATION: The initial notice for this public meeting published in the Federal Register on August 13, 2018 (83 FR 39988). The purpose of this meeting was for the Surfclam and Ocean Quahog AP to provide feedback on the Public Hearing Document for the Surfclam and Ocean Quahog Excessive Shares Amendment.

Dated: August 17, 2018.
Tracey L. Thompson,
Acting Deputy Director, Office of Sustainable Fisheries, National Marine Fisheries Service.

[FR Doc. 2018-18136 Filed 8-22-18; 8:45 am]

BILLING CODE 3510-22-P